DEPARTMENT OF HOMELAND SECURITY

Coast Guard

33 CFR Parts 100, 117, 147, and 165

[USCG-2019-0255]

2019 Quarterly Listings; Safety Zones, Security Zones, Special Local Regulations, Drawbridge Operation Regulations and Regulated Navigation Areas

AGENCY: Coast Guard, DHS.

ACTION: Notification of expired temporary rules issued.

SUMMARY: This document provides notification of substantive rules issued by the Coast Guard that were made temporarily effective but expired before they could be published in the Federal Register. This document lists temporary safety zones, security zones, special local regulations, drawbridge operation regulations and regulated navigation areas, all of limited duration and for which timely publication in the Federal Register was not possible.

DATES: This document lists temporary Coast Guard rules that became effective, primarily between December 2018 and March 2019, unless otherwise indicated, and were terminated before they could be published in the Federal Register.

ADDRESSES: Temporary rules listed in this document may be viewed online, under their respective docket numbers, at https://www.regulations.gov.

FOR FURTHER INFORMATION CONTACT: For questions on this document contact Deborah Thomas, Office of Regulations and Administrative Law, telephone (202) 372-3864.

SUPPLEMENTARY INFORMATION: Coast Guard District Commanders and Captains of the Port (COTP) must be immediately responsive to the safety and security needs within their jurisdiction; therefore, District Commanders and COTPs have been delegated the authority to issue certain local regulations. Safety zones may be established for safety or environmental purposes. A safety zone may be stationary and described by fixed limits or it may be described as a zone around a vessel in motion. Security zones limit access to prevent injury or damage to vessels, ports, or waterfront facilities. Special local regulations are issued to enhance the safety of participants and spectators at regattas and other marine events. Drawbridge operation regulations authorize changes to drawbridge schedules to accommodate bridge repairs, seasonal vessel traffic, and local public events. Regulated Navigation Areas are water areas within a defined boundary for which regulations for vessels navigating within the area have been established by the regional Coast Guard District Commander.

Timely publication of these rules in the Federal Register may be precluded when a rule responds to an emergency, or when an event occurs without sufficient advance notice. The affected public is, however, often informed of these rules through Local Notices to Mariners, press releases, and other means. Moreover, actual notification is provided by Coast Guard patrol vessels enforcing the restrictions imposed by the rule. Because Federal Register publication was not possible before the end of the effective period, mariners were personally notified of the contents of these safety zones, security zones, special local regulations, regulated navigation areas or drawbridge operation regulations by Coast Guard officials on-scene prior to any enforcement action. However, the Coast Guard, by law, must publish in the Federal Register notice of substantive rules adopted. To meet this obligation without imposing undue expense on the public, the Coast Guard periodically publishes a list of these temporary safety zones, security zones, special local regulations, regulated navigation areas and drawbridge operation regulations. Permanent rules are not included in this list because they are published in their entirety in the Federal Register. Temporary rules are also published in their entirety if sufficient time is available to do so before they are placed in effect or terminated.

The following unpublished rules were placed in effect temporarily during the period between December 2018 and March 2019 unless otherwise indicated. To view copies of these rules, visit www.regulations.gov and search by the docket number indicated in the following table.

Docket No. | Type | Location | Effective date
USCG-2018-0818 | Safety Zones (Parts 147 and 165) | Sunken Vessel Charleston Harbor; Charleston, SC | 11/18/18
USCG-2018-0914 | Security Zones (Part 165) | Potomac River and Anacostia River, Washington, DC | 12/3/18
USCG-2018-1113 | Safety Zones (Parts 147 and 165) | Downtown Sandusky Fireworks, Lake Erie, Sandusky, OH | 12/31/18
USCG-2018-1112 | Safety Zones (Parts 147 and 165) | Ohio River, Vanport, PA | 1/1/19
USCG-2018-1086 | Safety Zones (Parts 147 and 165) | Tennessee River, Huntsville, AL | 1/4/19
USCG-2019-0008 | Safety Zones (Parts 147 and 165) | Tennessee River, Huntsville, AL | 1/9/19
USCG-2019-0021 | Security Zones (Part 165) | Corpus Christi Ship Channel, Corpus Christi, TX | 1/12/19
USCG-2018-1059 | Safety Zones (Parts 147 and 165) | Tappan Zee Bridge Demolition, Hudson River; Tarrytown, NY | 1/12/19
USCG-2018-1111 | Safety Zones (Parts 147 and 165) | Fireworks Displays in the Fifth Coast Guard District | 1/13/19
USCG-2018-1116 | Safety Zones (Parts 147 and 165) | Atlantic Intracoastal Waterway, Camp Lejeune, NC | 1/15/19
USCG-2019-0026 | Safety Zones (Parts 147 and 165) | Tennessee River, Calvert City, KY | 1/16/19
USCG-2019-0006 | Safety Zones (Parts 147 and 165) | Ohio River, Owensboro, KY | 1/19/19
USCG-2018-1115 | Drawbridges (Part 117) | Newport River, Beaufort, NC | 1/25/19
USCG-2019-0007 | Special Local Regulations (Part 100) | Gasparilla Marine Parade; Hillsborough Bay; Tampa, FL | 1/26/19
USCG-2018-1120 | Special Local Regulations (Part 100) | Hanohano Ocean Challenge, San Diego, CA | 1/26/19
USCG-2019-0027 | Safety Zones (Parts 147 and 165) | Pier 84; Fireworks Display in the COTP, NY | 2/11/19
USCG-2018-1109 | Safety Zones (Parts 147 and 165) | Murden Cove, Bainbridge Island, WA | 2/26/19
USCG-2019-0204 | Safety Zones (Parts 147 and 165) | Squalicum Harbor, WA | 3/16/19
USCG-2019-0173 | Security Zones (Part 165) | Charleston Harbor and Cooper River, Charleston, SC | 3/19/19

Dated: April 18, 2019.
Katia Kroutil,
Chief, Office of Regulations and Administrative Law, U.S. Coast Guard.

[FR Doc. 2019-08120 Filed 4-22-19; 8:45 am]

BILLING CODE 9110-04-P